SOCIAL SECURITY ADMINISTRATION

[Docket No: SSA-2025-0012]

Agency Information Collection Activities: Proposed Request and Comment Request

The Social Security Administration (SSA) publishes a list of information collection packages requiring clearance by the Office of Management and Budget (OMB) in compliance with Public Law 104-13, the Paperwork Reduction Act of 1995, effective October 1, 1995. This notice includes extensions and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA. (SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0012] in your submitted response.

I. The information collection below is pending at SSA. SSA will submit it to OMB within 60 days from the date of this notice. To be sure we consider your comments, we must receive them no later than June 16, 2025. Individuals can obtain copies of the collection instrument by writing to the above email address.

eSignature/Upload Documents—20 CFR 404.704; 404.1512, 416.912, and 422.505—0960-0830

Background

In the digital age, individuals expect to complete transactions online, including submitting documents and forms to government agencies. The agency offers several service-specific options for individuals to submit forms and other documents online (e.g., iClaim, OMB #0960-0618; iAppeals, OMB Number 0960-0269 & 0960-0622; Electronic Records Express, OMB #0960-0753; etc.). While these available options are useful, the agency uses eSignature/Upload Documents [formerly Upload Documents (eSubmit)] to expand the options for first-party individuals to securely submit information electronically to SSA to complete business with the agency and support claims for benefits. The Social Security Administration (SSA) introduced eSignature/Upload Documents nationally in April 2024, as a new way for individuals to securely submit evidence and forms electronically to SSA.

SSA relies heavily on receiving physical forms, proofs, and evidence from customers and third parties (e.g., appointed representatives) either in office or via paper mail. SSA estimates that our offices receive roughly 35-36 million pieces of mail each year and that it takes about 4 minutes per paper mail parcel for front line staff to manually open, sort, review, digitize, and assign each piece of mail manually using our backend intake processing systems. SSA regulations under 20 CFR 404.704, 404.1512, 416.200, 416.912, and 422.505 set out requirements for the evidence and forms respondents need to submit and complete to conduct business with the agency. In addition, Executive Order (E.O.) 14058, Transforming Federal Customer Experience and Service Delivery to Rebuild Trust in Government, requires SSA to develop a mobile-accessible, online process so that any individual applying for, or receiving services from, SSA can upload forms, documentation, evidence, or correspondence associated with their transaction without the need for service-specific tools or travel to a field office. To comply with E.O. 14058, SSA created eSignature/Upload Documents, which allows respondents to upload and submit forms, documentation, and evidence to SSA electronically through the internet or a mobile application.

eSignature/Upload Documents

As per the requirements of E.O. 14058, respondents may use the secure upload portal, eSignature/Upload Documents, to submit documents and webforms to SSA. As of the March 2024 national rollout, eSignature/Upload Documents contains 71 forms and allows for the electronic submission of 79 evidence types. The current process requires an SSA technician to request forms and evidence from a customer, then send an email or text to the customer with a link to upload these documents. As a direct result of SSA Customer Experience (CX) testing and feedback recommendations, the eSignature/Upload Documents team is enhancing the tool to include an expansion of forms and evidence types available for upload including additional PDFs, as well as static and dynamic webforms. While adding additional PDFs and static webforms increases the forms and evidence available for customers to upload electronically, the dynamic webforms modernize the forms for easier customer completion and submission. Dynamic webforms adapt questions based on the customer's response, ask questions in plain language, and are formatted in an easily understood way. Additionally, as a further result of customer feedback, eSignature/Upload Documents will implement an enhancement that allows customers to access the Upload Documents link directly from ssa.gov or their mySSA account without having to first interact with a SSA technician. Once the link is accessed and the form selected, the upload process eSignature/Upload Documents includes an electronic signature functionality allowing respondents to submit forms requiring a signature. Upon customer completion of a static or dynamic webform, the respondent includes an eSignature as needed, submits the form to SSA electronically, and the system generates a printable PDF for the customer's personal records if the customer desires it.

eSignature/Upload Documents serves individuals including Title II, Title XVI, and Title XVIII beneficiaries, as well as individuals who do not currently receive any benefits from SSA. eSignature/Upload Documents is limited to first-party individuals, and does not currently allow third parties, including representative payees, to submit documents on behalf of others. Technicians contact the respondent, via email, telephone, or face-to-face interview with SSA, for a business matter (e.g., filing a claim, performing a redetermination, or updating their personal information). During the interaction, the SSA technician requests additional information and offers the opportunity to provide the information electronically via the eSignature/Upload Documents portal. The technician then sends a one-time email or text message containing a link to eSignature/Upload Documents with access instructions. Customers who request a text message as their preferred communication method must first provide consent to text messaging. The electronic submission process is only available within 30 days from the date of the email or text. If the respondents do not submit the documents within 10 days, they receive an email or text reminder to complete their submission.

Once the respondents click on the link to eSignature/Upload Documents, the system requires them to authenticate using one of SSA's electronic access options (OMB Control No. 0960-0789), ID.me, or Login.gov, and then presents them with the required language concerning the applicable Terms of Service, the Privacy Act Statement, the Paperwork Reduction Act Statement, and any identity proofing and authentication (as per the requirements of those authentication processes). Once the respondents arrive at the eSignature/Upload Documents dashboard, the system presents them with the description of the items SSA requested from them (examples of the documentation SSA may request includes forms or non-standardized evidence to support their request [e.g., pay stubs, bank statements, pension award letters, tax documents, child support payment history, etc.]). Each item SSA requests from the respondent appears as a request card on their dashboard.

To fulfill an eSignature/Upload Documents request, the system guides the respondent through one of three options:

1. Download, complete, save and then upload a PDF, or upload an evidence document, by dragging or browsing from their device and uploading the document to the eSignature/Upload Documents system.

2. Complete and submit a static webform with or without additional uploaded document(s).

3. Complete and submit a dynamic webform with or without additional uploaded document(s).

Once the respondents finish uploading their forms or documents, the system will alert them if the attempted file upload does not meet the file criteria requirements. The respondent then corrects any upload failures before submitting the documents to SSA.

After either uploading the documents, or completing the static or dynamic webform questions, the respondent must select the Submit button to complete the action, and the system will present them with the confirmation page. This page also presents an option to save or print the completed PDF. The respondent receives a successful submission email or text once they have successfully uploaded their document(s) to SSA. The system notifies the technician through the Technician Experience Dashboard (TED) when the document is available for review and consideration.

Commercial Product Alternative Signature (CPAS)

SSA also allows for the submission of certain forms signed using a commercial signature product. Some of these forms also have electronic means for submission.

Under the CPAS process, individuals who use a commercial signature product to submit signed forms will ensure that the product is capable of generating an audit trail maintaining the following information in a digital certificate:

(1) confirmation that the document was signed using a commercial product; (2) signature details (i.e., name of person who signed the document, date/time document was signed); (3) email and IP address associated with each signature; (4) whether the document was changed after signature; and (5) an identifier that connects the audit trail to the signed document to which it applies. SSA then requires the individual to maintain the digital certificate for a minimum of three years from the date they submitted the form and to produce the digital certificate if the agency requests it. Once the individual uses the CPAS process SSA allows them to submit the electronically signed forms using any method currently accepted for wet-signed forms (e.g., by mail, in person, or via a secured electronic transfer, like Upload Documents or Electronic Records Express, OMB #0960-0753).

Currently, SSA only accepts CPAS for the Commercial Product Alternative Signature (CPAS) process as an additional means for individuals to sign the following eight currently approved agency forms prior to sending them to SSA:

OMB No. | Form No. | Form title
0960-0059 | SSA-821-BK; SSA-821-APP | Work Activity Report—Employee.
0960-0229 | SSA-8000-BK; iSSI (Internet modality) | Application for Supplemental Security Income (SSI).
0960-0444 | SSA-8001-BK; iSSI (Internet modality) | Application for Supplemental Security Income (Deferred or Abbreviated).
* 0960-0527 | SSA-1696; SSA-1696-APP | Appointment of Representative.
0960-0598 | SSA-820-BK; SSA-821-APP | Work Activity Report (Self-Employment).
0960-0618 | SSA-16; iClaim (Internet modality) | Application for Disability Insurance Benefits.
** 0960-0623 | SSA-827; i827 (Internet modality) | Authorization to Disclose Information to the Social Security Administration.
* 0960-0810 | SSA-1693; SSA-1693-APP | Fee Agreement for Representation before the Social Security Administration.
* While Forms SSA-1696 and SSA-1693 are not, currently, available through the Upload Documents (eSubmit) Portal, we offer an electronically signable and submittable PDF version through the Adobe Sign process. However, we hope to expand the Upload Documents Portal to include them in the future.
** Note: SSA may require additional verbal attestation for Form SSA-827 when submitted using the CPAS process. However, if the respondent chooses to submit the SSA-827 through the eSignature/Upload Documents webform, or the internet i827, SSA will accept it without any additional attestation.

The specific forms that respondents submit through eSignature/Upload Documents (or the CPAS process) retain their existing OMB Control Numbers, reflecting the fact that the eSignature/Upload Document Paperwork Reduction Act (PRA) approval is for the system we use to collect form submissions, but not the actual questions on the forms themselves. While we note the use of eSignature/Upload Documents reduces the overall burden associated with submitting forms, SSA continues to document any burden reduction associated with improved submission within the specific forms' supporting statements.

Respondents are first-party individuals who choose to use the internet to conduct business with SSA.

Type of Request: Revision of an OMB-approved information collection.

Modality of completion | Number of respondents | Frequency of response | Average burden per response (minutes) | Estimated total annual burden (hours) | Average theoretical hourly cost amount (dollars) * | Average wait time for teleservice center (minutes) ** | Total annual opportunity cost (dollars) **
Internet-Based Static or Dynamic Webform | 115,369 | 1 | 5 | 9,614 | * $32.66 | ** 21 | *** $1,632,771
* We based these figures on average U.S. worker's hourly wages (based on BLS.gov data, Occupational Employment and Wage Statistics).
** We based this figure on the average FY 2025 wait times for teleservice centers (approximately 21 minutes per respondent), based on SSA's current management information data.
*** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than May 16, 2025. Individuals can obtain copies of these OMB clearance packages by writing to the OR.Reports.Clearance@ssa.gov.

1. Statement of Claimant or Other Person—20 CFR 404.702 & 416.570-0960-0045. SSA uses Form SSA-795 in special situations where there is no authorized form or questionnaire, yet we require a signed statement from the applicant, claimant, or other individuals who have knowledge of facts, in connection with claims for Social Security benefits or Supplemental Security Income (SSI). The information we request on the SSA-795 is of sufficient importance that we need both a signed statement and a penalty clause. SSA uses this information to process, in addition to claims for benefits, issues about continuing eligibility; ongoing benefit amounts; use of funds by a representative payee; fraud investigation; and a myriad of other program-related matters. The most common respondents are applicants for Social Security, SSI, or recipients of these programs. However, respondents also include friends and relatives of the involved parties, coworkers, neighbors, or anyone else in a position to provide information pertinent to the issue(s).

Type of Request: Revision of an OMB-approved information collection.

Modality of completion | Number of respondents | Frequency of response | Average burden per response (minutes) | Estimated total annual burden (hours) | Average theoretical hourly cost amount (dollars) * | Average wait time in field office or telephone wait time (minutes) ** | Total annual opportunity cost (dollars) ***
SSA-795 Paper | 154,318 | 1 | 15 | 38,580 | * $13.30 | ** 23 | *** $1,299,876
SSA-795 (SSI CCE interviews) | 22,516 | 1 | 15 | 5,629 | * 31.48 | ** 21 | *** 425,295
Totals | 176,834 |  |  | 44,209 |  |  | *** 1,725,171
* We based this figure on the average DI payments based on SSA's current data (https://www.ssa.gov/legislation/2024FactSheet.pdf) and on the average U.S. worker's hourly wages, as reported by Bureau of Labor Statistics data (Occupational Employment and Wage Statistics).
** We based these figures on both the average FY 2025 wait times for field offices (23 minutes) and teleservice centers (21 minutes), based on SSA's current management information data.
*** This figure does not represent actual costs that SSA is imposing on recipients of Social Security payments to complete this application; rather, these are theoretical opportunity costs for the additional time respondents will spend to complete the application. There is no actual charge to respondents to complete the application.

2. Request for Reconsideration—Disability Cessation—20 CFR 404.909, 404.1597(b), 416.995, & 416.1409—0960-0349. When SSA determines that claimants' disabilities medically improved, ceased; or are no longer sufficiently disabling, these claimants may ask SSA to reconsider that determination. SSA uses Form SSA-789 to arrange for a hearing or prepare a decision based on the evidence of record. Specifically, claimants or their representatives use Form SSA-789 to: (1) ask SSA to reconsider a determination, (2) indicate if they wish to appear at a disability hearing, (3) submit any additional information or evidence for use in the reconsidered determination, and (4) indicate if they will need an interpreter for the hearing. The respondents are disability claimants for Social Security benefits or SSI payments who wish to appeal an unfavorable disability cessation determination.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-789 | 72,796 | 1 | 10 | 12,133 | * $13.30 | ** 23 | *** $532,505
* We based this figure on average DI payments based on SSA's current data (https://www.ssa.gov/legislation/2024FactSheet.pdf).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

3. Travel Expense Reimbursement—20 CFR 404.999(d) and 416.1499—0960-0434. The Social Security Act (Act) provides for travel expense reimbursement from Federal and State agencies for claimant travel incidental to medical examinations, and to parties, their representatives, and all reasonably necessary witnesses for travel exceeding 75 miles to attend medical examinations, reconsideration interviews and proceedings before an administrative law judge. Reimbursement procedures require the claimant to provide: (1) a list of expenses incurred; and (2) receipts of such expenses. Federal and state personnel review the listings and receipts to verify the reimbursable amount to the requestor. The respondents are claimants for Title II benefits and Title XVI payments, their representatives, and witnesses.

Type of Request: Extension of an OMB-approved information collection.

Modality of completion | Number of respondents | Frequency of response | Average burden per response (minutes) | Estimated total annual burden (hours) | Average theoretical hourly cost amount (dollars) * | Total annual opportunity cost (dollars) **
404.999(d) & 416.1499 | 60,000 | 1 | 10 | 10,000 | * $29.63 | ** $296,300
* We based this figure by averaging both the average DI payments based on SSA's current data (https://www.ssa.gov/legislation/2024FactSheet.pdf), and the average U.S. worker's hourly wages, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

4. Permanent Residence in the United States Under Color of Law (PRUCOL)—20 CFR 416.1615 and 416.1618—0960-0451. Under 20 CFR 416.1415 and 416.1618 of the Code of Federal Regulations (Code), SSA requires claimants or recipients to submit evidence of their alien status when they apply for SSI payments, and periodically thereafter as part of the eligibility determination process for SSI. When SSA cannot verify evidence of alien status through the regular claimant interview process, SSA verifies the validity of the evidence of PRUCOL for grandfathered nonqualified aliens with the Department of Homeland Security (DHS) using the DHS Systemic Alien Verification for Entitlements (SAVE) program. SSA determines if the individual qualifies for PRUCOL status based on the SAVE program response. SSA does not maintain any forms or applications for respondents to use, rather, the regulations listed in 20 CFR 416.1615 and 416.1618 specify the information respondents need to submit to SSA to show evidence of PRUCOL. Without this information, SSA is unable to determine whether the PRUCOL individual is eligible for SSI payments. Respondents are qualified and unqualified aliens who apply for SSI payments under PRUCOL.

Type of Request: Extension of an OMB-approved information collection

Modality of completion | Number of respondents | Frequency of response | Average burden per response (minutes) | Estimated total annual burden (hours) | Average theoretical hourly cost amount (dollars) * | Average wait time in field office (minutes) ** | Total annual opportunity cost (dollars) ***
Personal Interview | 1,049 | 1 | 5 | 87 | * $31.48 | ** 23 | ** $15,971
* We based this figure on average U.S. worker's hourly wages, as reported by Bureau of Labor Statistics data (Occupational Employment and Wage Statistics).
** We based this figure on the average FY 2025 wait times for field offices, based on SSA's current management information data.
** This figure does not represent actual costs that SSA is imposing on recipients of Social Security payments to complete this application; rather, these are theoretical opportunity costs for the additional time respondents will spend to complete the application. There is no actual charge to respondents to complete the application.

5. Internet Request for Replacement of Forms SSA-1099/SSA-1042S—20 CFR 401.45-0960-0583. Title II beneficiaries use Forms SSA-1099 and SSA-1042S, Social Security Benefit Statement, to determine if their Social Security benefits are taxable, and the amount they need to report to the Internal Revenue Service. In cases where the original forms are unavailable (e.g., lost, stolen, mutilated), an individual may use SSA's automated telephone application to request a replacement SSA-1099 and SSA-1042. SSA uses the information from the automated telephone requests to verify the identity of the requestor and to provide replacement copies of the forms. SSA accepts information in other ways, however; The automated telephone options reduce requests to the National 800 Number Network (N8NN) and visits to local Social Security field offices (FO). The respondents are title II beneficiaries who wish to request a replacement SSA-1099 or SSA-1042S via telephone.

Type of Request: Revision of an OMB-approved information collection.

Modality of completion | Number of respondents | Frequency of response | Average burden per response (minutes) | Estimated total annual burden (hours) | Average theoretical hourly cost amount (dollars) * | Average wait time for teleservice centers (minutes) ** | Total annual opportunity cost (dollars) ***
Automated Telephone Requests | 316,000 | 1 | 6 | 31,600 | * $32.66 | ** 21 | *** $4,664,252
N8NN | 497,778 | 1 | 3 | 24,889 | * 32.66 | ** 21 | *** 5,690,091
Calls to local field offices | 848,444 | 1 | 3 | 42,422 | * 32.66 | ** 21 | *** 1,870,438
Other (program service centers) | 41,640 | 1 | 3 | 2,082 | * 32.66 | ** 21 | *** 91,807
Totals | 1,419,462 |  |  | 100,993 |  |  | *** 12,316,588
* We based this figure on average U.S. worker's hourly wages, as reported by Bureau of Labor Statistics data (Occupational Employment and Wage Statistics).
** We based this figure on the average FY 2025 wait times for SSA Teleservice centers, based on SSA's current management information data.
*** This figure does not represent actual costs that SSA is imposing on recipients of Social Security payments to complete this application; rather, these are theoretical opportunity costs for the additional time respondents will spend to complete the application. There is no actual charge to respondents to complete the application.

6. Protecting the Public and Our Personnel To Ensure Operational Effectiveness (RIN 0960-AH35), Regulation 3729I—20 CFR 422.905 and 422.906—0960-0796. SSA published regulations for the process we follow when we restrict individuals from receiving in-person services in our field offices and provide them, instead, with alternative services. We published these rules to create a safer environment for our personnel and members of the public who use our facilities, while ensuring we continue to serve the American people with as little disruption to our operations as possible. Under our regulations at 20 CFR 422.905 of the Code, an individual for whom we restrict access to our facilities has the opportunity to appeal our decision within 60 days of the date of the restrictive access and alternative service notice. To appeal, restricted individuals must submit a written request via mail stating why they believe SSA should rescind the restriction and allow them to conduct business with us on a face-to-face basis in one of our offices. There is no printed form for this request; rather, restricted individuals create their own written statement of appeal and submit it to a sole decision-maker in the regional office of the region where the restriction originated. The individuals may also provide additional documentation to support their appeal. Under 20 CFR 422.906 of the Code, if the individual does not appeal the decision within the 60 days, if we restricted the individual prior to the effective date of this regulation, or if the appeal results in a denial, the individual has another opportunity to request review of the restriction after a three-year period. To submit this request for review, restricted individuals may re-submit a written appeal of the decision. The same criteria apply as for the original appeal: (1) it must be in writing; (2) it must be sent to a sole decision-maker in the regional office of the region where the restriction originated for review; and (3) it may accompany supporting documentation. We make this periodic review available to all restricted individuals once every three years. Respondents for this collection are individuals appealing their restrictions from in-person services at SSA field offices.

Type of Request: Extension of an OMB-approved information collection.

Regulation section | Number of respondents | Frequency of response | Average burden per response (minutes) | Estimated total annual burden (hours) | Average theoretical hourly cost amount (dollars) * | Total annual opportunity cost (dollars) **
20 CFR 422.905 | 75 | 1 | 15 | 19 | * $22.98 | ** $437
20 CFR 422.906 | 75 | 1 | 20 | 25 | * 22.98 | ** 575
Totals | 150 |  |  | 44 |  | ** 1,012
* We based this figure by averaging both the average DI payments based on SSA's current data (https://www.ssa.gov/legislation/2024FactSheet.pdf), and the average U.S. worker's hourly wages, as reported by Bureau of Labor Statistics data (Occupational Employment and Wage Statistics).
** This figure does not represent actual costs that SSA is imposing on claimants of Social Security payments to complete this application; rather, these are theoretical opportunity costs for the additional time respondents will spend to complete the application. There is no actual charge to respondents to complete the application.

7. Social Security Administration Health IT Partner Program Assessment—Participating Facilities and Available Content Form—20 CFR 404.1614 and 416.1014—0960-0798. The Health Information Technology for Economic and Clinical Health (HITECH) Act promotes the adoption and meaningful use of health information technology (IT), particularly in the context of working with government agencies. Similarly, Section 3004 of the Public Health Service Act requires health care providers or health insurance issuers with government contracts to implement, acquire, or upgrade their health IT systems and products to meet adopted standards and implementation specifications. To support expansion of SSA's health IT initiative as defined under HITECH, SSA developed Form SSA-680, the Health IT Partner Program Assessment—participating Facilities and Available Content Form. The SSA-680 allows healthcare providers to provide the information that SSA needs to determine their ability to exchange health information with us electronically. We evaluate potential partners (i.e., healthcare providers and organizations) on: (1) the accessibility of health information they possess; and (2) the content value of their electronic health records' systems for our disability adjudication processes. SSA reviews the completeness of organizations' SSA-680 responses as one part of our careful analysis of their readiness to enter a health IT partnership with us. The respondents are healthcare providers and organizations exchanging information with the agency.

Type of Request: Revision of an OMB-approved information collection.

Modality of completion | Number of respondents | Frequency of response | Average burden per response (minutes) | Estimated total annual burden (hours) | Average theoretical hourly cost amount (dollars) * | Total annual opportunity cost (dollars) **
SSA-680 | 10 | 1 | 2,400 | 400 | * $50.59 | ** $20,236
* We based these figures on average Healthcare Practitioners and Technical Occupations, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

Dated: April 10, 2025.
Naomi Sipple,
Reports Clearance Officer, Social Security Administration.

[FR Doc. 2025-06422 Filed 4-15-25; 8:45 am]

BILLING CODE 4191-02-P